DEPARTMENT OF TRANSPORTATION

Pipeline and Hazardous Materials Safety Administration

Hazardous Materials: Notice of Application for Modification of Special Permit

AGENCY: Office of Hazardous Materials Safety, Pipeline and Hazardous Materials Safety Administration (PHMSA), DOT.

ACTION: List of application for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before April 1, 2016.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(b); 49 CFR I.53(b)).

Issued in Washington, DC, February 16, 2016.
Don Burger,
Chief, General Approvals and Permits.

Modification Special Permits
Application No. | Docket No. | Applicant | Regulation(s) affected | Nature of special permit thereof
11378-M |  | National Aeronautics and Space Administration (NASA), Washington, DC | 49 CFR 173.201; 173.226; 173.227; 178.61-5; 178.61-20; 173.40 | To modify the special permit to authorize an additional hazardous material.
12818-M |  | Shoreline Marine Inc., D.B.A. Safetech, Humble, TX | 49 CFR 173.301(i); 173.302 | To modify the special permit to authorize two additional foreign non-DOT specification steel cylinders and to clarify certain packaging and operational requirements.
13213-M |  | Washington State Ferrie, Seattle, WA | 49 CFR 172.101(10a) | To modify the special permit to increase the quantity of Petroleum gases, liquefied or Liquefied Petroleum Gas from 100 lbs to 143 lbs.
14372-M |  | Shoreline Marine Inc., dba Safetech, Humble, TX | 49 CFR 173.301(a)(1); 173.304 | To modify the special permit to authorize three additional foreign non-DOT specification steel cylinders and clarify certain packaging and operational requirements.
14751-M |  | Univation Technologies, LLC, Houston, TX | 49 CFR 173.242 | To modify the special permit to authorize adding additional drawings.
15691-M |  | Department of Defense, Scotts AFB, IL | 49 CFR 180.209 | To modify the special permit to authorize clarifying the requirements for the purpose and limitation and safety control measures.
16391-M |  | Halliburton Energy Services, Inc., Carrollton, TX | 49 CFR 173.201, 173.301(f), 173.302, 173.304a | To modify the special permit to increase the restriction of the service pressure to 16,000 psi.
16469-M |  | ACS UE Testing LLC, Denver, CO | 49 CFR 172.203(a), 172.301(c), 180.205 | To modify the special permit to authorize the UE system to perform a 3 pass scan.
16555-M |  | Advance Research Chemicals, Inc., Catoosa, OK | 49 CFR 173.227(b)(2)(iii) | To modify the special permit originally issued on an emergency basis to authorize an additional two years and identify Advance Research Chemicals, Inc. as an offeror of hazardous materials.
16566-M |  | Sunset Helicopters, Inc., Aurora, OR | 49 CFR 172.220(b)(1), 172.200, 172.300, 172.400, 173.27, 175.30, 175.33, 175.75, Part 173 | To modify the special permit originally issued on an emergency basis to authorize an additional two years.
16572-M |  | Samsung Austin Semiconductor, LLC, Austin, TX | 49 CFR 173.158(b), 173.158(e), 173.158(f) | To modify the special permit to authorize removing unnecessary restrictions contained in paragraph 7.b. safety control measures.
16624-M |  | AREVA Inc., Richland, WA | 49 CFR 173.301(a)(1) | To modify the special permit originally issued on an emergency basis to authorize an additional two years and clarify certain requirements contained in paragraph 7. safety control measures.

[FR Doc. 2016-05698 Filed 3-16-16; 8:45 am]

BILLING CODE 4909-60-M